DEPARTMENT OF HEALTH AND HUMAN SERVICES

Centers for Disease Control and Prevention

National Institute for Occupational Safety and Health Personal; Notice of public meeting in Endicott, New York

AGENCY: The National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) announces a public meeting to present results from a study of former workers of the International Business Machine (IBM) facility in Endicott, New York. This meeting is being held to present study results to stakeholders and members of the public and to offer the opportunity for comments.

Meeting Time and Date: January 23, 2014, 6:30 p.m.-8:30 p.m. EST, or after the last public commenter has spoken, whichever occurs first.

ADDRESSES: First United Methodist Church, 53 McKinley Ave, Basement, Endicott, NY 13760.

FOR FURTHER INFORMATION CONTACT: Sharon Silver, M.S., NIOSH Division of Surveillance, Hazard Evaluations and Field Studies, 4676 Columbia Parkway MS-R15, Cincinnati, Ohio 45226. (513) 841-4313 or (513) 841-4203.

SUPPLEMENTARY INFORMATION:

I. Background

• In 2009, NIOSH began a study to examine potential health outcomes among former IBM workers in Endicott, New York.

• The study occurred as a result of a request made by the New York State Department of Health, Congressional representatives from New York, and community stakeholders.

• After listening to community and former workers' concerns, NIOSH set goals to evaluate the following:

○ overall causes of death among former workers,

○ testicular cancer diagnosis among former workers, and

○ birth defects among children of former workers.

• The study included 34,494 people who worked at the IMB-Endicott facility for at least 90 days between January 1, 1969 and December 31, 2001.

• The assessment of the causes of death and testicular cancer diagnoses among former workers is complete. The assessment of birth defects among children of former workers is still in process.

II. Public Meeting

NIOSH will hold a public meeting to present information on the results of a study that included former workers from the IBM-Endicott facility.

• A 60 minute presentation will be given by a NIOSH Official.

• Upon completion of the presentation, members of the public will be provided the opportunity to comment or ask questions. This opportunity will be on a first come, first served basis.

• The meeting will end at 8:30PM EST or after the last public commenter has spoken, whichever occurs first.

Dated: December 19, 2013.
John Howard,
Director, National Institute for Occupational Safety and Health, Centers for Disease Control and Prevention.

[FR Doc. 2013-30905 Filed 12-24-13; 8:45 am]

BILLING CODE 4163-19-P